DEPARTMENT OF ENERGY

Federal Energy Regulatory Commission

[Project No. 2736-046]

Idaho Power Company; Notice of Waiver Period for Water Quality Certification Application

On February 14, 2024, Idaho Power Company submitted to the Federal Energy Regulatory Commission (Commission) evidence of the date on which the certifying agency received the certification request for a Clean Water Act section 401(a)(1) water quality certification filed with the Idaho Department of Environmental Quality, in conjunction with the above captioned project. Pursuant to 40 CFR 121.6 and sectionc 4.34(b)(5), 5.23(b), 153.4, or 157.22 of the Commission's regulations,¹ we hereby notify the Idaho Department of Environmental Quality of the following:

¹ 18 CFR 4.34(b)(5), 5.23(b), 153.4, and 157.22.

Date of Receipt of the Certification Request: September 12, 2023.

Reasonable Period of Time to Act on the Certification Request: One year (September 12, 2024).

If the Idaho Department of Environmental Quality fails or refuses to act on the water quality certification request on or before the above date, then the agency certifying authority is deemed waived pursuant to section 401(a)(1) of the Clean Water Act, 33 U.S.C. 1341(a)(1).

Dated: February 21, 2024.
Debbie-Anne A. Reese,
Acting Secretary.

[FR Doc. 2024-04046 Filed 2-26-24; 8:45 am]

BILLING CODE 6717-01-P